DEPARTMENT OF HEALTH AND HUMAN SERVICES

Centers for Medicare & Medicaid Services

[Document Identifier: CMS-10416]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by June 4, 2018.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

To obtain copies of a supporting statement and any related forms for the proposed collection(s) summarized in this notice, you may make your request using one of following:

1. Access CMS' website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William Parham at (410) 786-4669.

SUPPLEMENTARY INFORMATION:

Contents

This notice sets out a summary of the use and burden associated with the following information collections. More detailed information can be found in each collection's supporting statement and associated materials (see ADDRESSES).

CMS-10416 Blueprint for Approval of State-based Health Insurance Exchanges

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Reinstatement with change of a previously approved collection; Title of Information Collection: Blueprint for Approval of State-based Health Insurance Exchanges; Use: The original information collection request for the State Exchange Blueprint Data Collection Tool specified a single reporting tool for all the various exchange types and was partially paper based. Subsequent revisions simplified the tool by having separate collection tools for each type of exchange and on-line implementation of the tool to reduce the burden. This revision updates the tool to reflect current State Exchange model options (a State-based Exchange (SBE) or a State-based Exchange on the Federal Platform (SBE-FP,)) program requirements, updated regulatory requirements promulgated through the 2017, 2018 and the 2019 Payment Notice, as well as through the Marketplace Stabilization Rule, and replaces the requirement for document and evidence submissions with attestations across all sections to further reduce the burden.

Given the innovative nature of Exchanges and the statutorily-prescribed relationship between the secretary and States in their development and operation, it is critical that the Secretary work closely with States to provide necessary guidance and technical assistance to ensure that States can meet the prescribed timelines, federal requirements, and goals of the statute.

States seeking to establish a SBE or SBE-FP must build an Exchange that meets the requirements set out in Section 1311(d) of the Affordable Care Act and pursuant to CFR 155.105, FFE states that seek to operate an SBE or SBE-FP must complete and submit an Exchange Blueprint Application. The Blueprint Application documents that an Exchange will meet the legal and operational requirements associated with the Exchange model a state chooses to pursue. As part of its Blueprint submission, a state will also agree to demonstrating operational readiness to implement and execute the required Exchange activities described in the Blueprint Application. Form Number: CMS-10416 (OMB control number: 0938-1172); Frequency: Once; Affected Public: State, Local, or Tribal governments; Number of Respondents: 21; Total Annual Responses: 21; Total Annual Hours: 664. (For policy questions regarding this collection contact Christy Woods at 301-492-5140).

Dated: March 30, 2018.
William N. Parham, III,
Director, Paperwork Reduction Staff, Office of Strategic Operations and Regulatory Affairs.

[FR Doc. 2018-06852 Filed 4-3-18; 8:45 am]

BILLING CODE 4120-01-P